FEDERAL TRADE COMMISSION

Sunshine Act Meeting Notice

AGENCY: Federal Trade Commission.

TIME AND DATE: 2 p.m., Wednesday, May 17, 2006.

PLACE: Federal Trade Commission Building, Room 532, 600 Pennsylvania Avenue, NW., Washington, DC 20580.

STATUS: Part of this meeting will be open to the public. The rest of the meeting will be closed to the public.

MATTERS TO BE CONSIDERED:

Portion Open to Public

(1) Oral Argument in the matter of Evanston Northwestern Healthcare Corporation et al., Docket 9315.

Portion Closed to the Public

(2) Executive Session to follow Oral Argument in Evanston Northwestern Healthcare Corporation et al., Docket 9315.

Contact Person for More Information: Mitch Katz, Office of Public Affairs: (202) 326-2180, Recorded Message: (202) 326-2711.

Donald S. Clark,
Secretary, (202) 326-2514.

[FR Doc. 06-4586 Filed 5-11-06; 3:55 pm]

BILLING CODE 6750-01-M